OFFICE OF PERSONNEL MANAGEMENT

5 CFR Part 532

RIN 3206-AL43

Prevailing Rate Systems; Definition of the Municipality of Bayamon, PR, to a Nonappropriated Fund Federal Wage System Wage Area

AGENCY: Office of Personnel Management.

ACTION: Final rule.

SUMMARY: The U.S. Office of Personnel Management is issuing a final rule to define the municipality of Bayamon, Puerto Rico, as an area of application to the Guaynabo-San Juan, PR, nonappropriated fund (NAF) Federal Wage System (FWS) wage area. This change is necessary because there are NAF FWS employees working in the municipality of Bayamon and the municipality is not currently defined to an NAF wage area.

DATES: This rule is effective on March 17, 2008.

FOR FURTHER INFORMATION CONTACT: Madeline Gonzalez, (202) 606-2838; e-mail pay-performance-policy@opm.gov; or Fax: (202) 606-4264.

SUPPLEMENTARY INFORMATION: On November 14, 2007, the U.S. Office of Personnel Management (OPM) issued an interim rule (72 FR 63967) to add the municipality of Bayamon, PR, as an area of application to the Guaynabo-San Juan, Puerto Rico, nonappropriated fund Federal Wage System wage area. The interim rule had a 30-day public comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Linda M. Springer,
Director.

Accordingly, under the authority of 5 U.S.C. 5343, the interim rule published on November 14, 2007, amending 5 CFR part 532 (72 FR 63967) is adopted as final with no changes.

[FR Doc. E8-2819 Filed 2-13-08; 8:45 am]

BILLING CODE 6325-39-P